DEPARTMENT OF COMMERCE

National Oceanic and Atmospheric Administration

[I.D. 111306A]

Marine Mammals; File No. 1053-1825

AGENCY: National Marine Fisheries Service (NMFS), National Oceanic and Atmospheric Administration (NOAA), Commerce.

ACTION: Notice; issuance of permit.

SUMMARY: Notice is hereby given that David Mann, Ph.D., College of Marine Science, The University of South Florida, College of Marine Science, 140 Seventh Avenue South, St. Petersburg, FL 33701 has been issued a permit to conduct research on certain cetacean species.

ADDRESSES: The permit and related documents are available for review upon written request or by appointment (See SUPPLEMENTARY INFORMATION).

FOR FURTHER INFORMATION CONTACT: Amy Sloan or Dr. Tammy Adams, (301)713-2289.

SUPPLEMENTARY INFORMATION: On July 5, 2006, notice was published in the Federal Register (70 FR 28909) that a request for a scientific research permit to take certain cetacean species had been submitted by the above-named individual. The requested permit has been issued under the authority of the Marine Mammal Protection Act of 1972, as amended (16 U.S.C. 1361 et seq.), and the regulations governing the taking and importing of marine mammals (50 CFR part 216).

This permit authorizes the permit holder to conduct hearing measurements on stranded cetaceans on beaches, in near-shore waters, and in rehabilitation facilities in the U.S.; and on cetaceans captured under separate research permits.

In compliance with the National Environmental Policy Act of 1969 (42 U.S.C. 4321 et seq.), a final determination has been made that the activities proposed are categorically excluded from the requirement to prepare an environmental assessment or environmental impact statement.

Dated: November 22, 2006.
P. Michael Payne,
Chief, Permits, Conservation and Education Division, Office of Protected Resources, National Marine Fisheries Service.

[FR Doc. E6-20246 Filed 11-28-06; 8:45 am]

BILLING CODE 3510-22-S